DEPARTMENT OF JUSTICE

Antitrust Division

Notice Pursuant to the National Cooperative Research and Production Act of 1993—Petroleum Environmental Research Forum Project No. 2013-07, Stream Speciation Update

Notice is hereby given that, on February 23, 2015, pursuant to Section 6(a) of the National Cooperative Research and Production Act of 1993, 15 U.S.C. 4301 et seq. (“the Act”), Petroleum Environmental Research Forum Project No. 2013-07, Stream Speciation Update (“PERF Project No. 2013-07”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ExxonMobil Research and Engineering Company, Fairfax, VA; Chevron U.S.A., Inc., San Ramon, CA; BP Products North America Inc., Naperville, IL; and Shell Global Solutions (US) Inc., Houston, TX. The general area of PERF Project No. 2013-07's planned activity is, through cooperative research efforts, to explore whether sufficient changes in refinery stream compositions have occurred to warrant updating the existing PERF report (API, Refinery Stream Speciation, Publication Number 4723, November 2002). If justified, the project will consider utilizing a combination of Participant data already existing (blinded and de-identified) and/or publicly available company data to update the existing PERF report.

Patricia A. Brink,
Director of Civil Enforcement, Antitrust Division.

[FR Doc. 2015-07526 Filed 4-1-15; 8:45 am]

BILLING CODE CODE P